SMALL BUSINESS ADMINISTRATION

[Disaster Declaration # 10503 and # 10504]

Indiana Disaster # IN-00007

AGENCY: U.S. Small Business Administration.

ACTION: Notice.

SUMMARY: This is a notice of an Administrative declaration of a disaster for the State of Indiana dated June 20, 2006.

Incident: Severe Storms and Tornadoes.

Incident Period: June 7, 2006 through June 8, 2006.

Effective Date: June 20, 2006.

Physical Loan Application Deadline Date: August 21, 2006.

Economic Injury (EIDL) Loan Application Deadline Date: March 20, 2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration applications for disaster loans may be filed at the address listed above or other locally announced locations.

The following areas have been determined to be adversely affected by the disaster:

Primary Counties:

Jackson.

Contiguous Counties:

Indiana, Bartholomew, Brown, Jennings, Lawrence, Monroe, Scott, Washington.

The Interest Rates are:

| Percent
Homeowners with Credit Available Elsewhere: | 5.875
Homeowners without Credit Available Elsewhere: | 2.937
Businesses with Credit Available Elsewhere: | 7.763
Businesses & Small Agricultural Cooperatives without Credit Available Elsewhere: | 4.000
Other (Including Non-Profit Organizations) with Credit Available Elsewhere: | 5.000
Businesses and Non-Profit Organizations without Credit Available Elsewhere: | 4.000

The number assigned to this disaster for physical damage is 10503 C and for economic injury is 10504 0.

The State which received an EIDL Declaration # is Indiana.

(Catalog of Federal Domestic Assistance Numbers 59002 and 59008)

Dated: June 20, 2006.
Hector V. Barreto,
Administrator.

[FR Doc. E6-10072 Filed 6-26-06; 8:45 am]

BILLING CODE 8025-01-P